JUDICIAL CONFERENCE OF THE UNITED STATES

Hearings of the Judicial Conference Advisory Committees on Rules of Bankruptcy and Criminal Procedure

AGENCY: Judicial Conference of the United States, Advisory Committees on Rules of Bankruptcy and Criminal Procedure.

ACTION: Notice of cancellation of open hearings.

SUMMARY: The following public hearings have been canceled:

• Bankruptcy Rules in Washington, DC on January 4, 2002; and

• Criminal Rules in Atlanta, Georgia on January 7, 2002.

(Original notice of hearings appeared in the Federal Register of August 29, 2001 (66 FR 45693)).

FOR FURTHER INFORMATION CONTACT: John K. Rabiej, Chief, Rules Committee Support Office, Administrative Office of the United States Courts, Washington, DC 20544, telephone (202) 502-1820.

Dated: December 13, 2001.
John K. Rabiej,
Chief, Rules Committee Support Office.

[FR Doc. 01-31277 Filed 12-19-01; 8:45 am]

BILLING CODE 2210-55-M